INTERNATIONAL TRADE COMMISSION

[Investigation No. 332-590]

U.S.-Haiti Trade: Impact of U.S. Preference Programs on Haiti's Economy and Workers

ACTION: Notice of investigation and scheduling of a public hearing.

SUMMARY: Following receipt on February 22, 2022, of a request from the Committee on Ways and Means of the U.S. House of Representatives (Committee), under section 332(g) of the Tariff Act of 1930, the U.S. International Trade Commission (Commission) instituted Investigation No. 332-590, U.S.-Haiti Trade: Impact of U.S. Preference Programs on Haiti's Economy and Workers. The Committee requested that the Commission conduct an investigation and provide a report on the Haitian economy and U.S.-Haiti preference programs, and also provide several case studies showing the impact of these preference programs on industries of importance to Haiti's economy.

DATES:

May 4, 2022: Deadline for filing requests to appear at the public hearing.

May 13, 2022: Deadline for filing prehearing briefs and statements.

May 19, 2022: Deadline for filing electronic copies of oral hearing statements.

May 26, 2022: Public hearing.

June 9, 2022: Deadline for filing posthearing briefs and statements.

June 23, 2022: Deadline for filing all other written submissions.

December 22, 2022: Transmittal of Commission report to Committee.

ADDRESSES: All Commission offices are in the U.S. International Trade Commission Building, 500 E Street SW, Washington, DC. Due to the COVID-19 pandemic, the Commission's building is currently closed to the public. Once the building reopens, persons with mobility impairments who will need special assistance in gaining access to the Commission should contact the Office of the Secretary at 202-205-2000.

FOR FURTHER INFORMATION CONTACT: Project Leader Alan Fox (alan.fox@usitc.gov or 202-205-3267) or Deputy Project Leader Samantha Schreiber (samantha.schreiber@usitc.gov or 202-205-3176) for information specific to this investigation. For information on the legal aspects of this investigation, contact William Gearhart of the Commission's Office of the General Counsel (william.gearhart@usitc.gov or 202-205-3091). The media should contact Jennifer Andberg, Office of External Relations (jennifer.andberg@usitc.gov or 202-205-1819).

The public record for this investigation may be viewed on the Commission's electronic docket (EDIS) at https://edis.usitc.gov. General information concerning the Commission may also be obtained by accessing its website (https://www.usitc.gov). Hearing-impaired individuals may obtain information on this matter by contacting the Commission's TDD terminal at 202-205-1810.

SUPPLEMENTARY INFORMATION: As requested by the Committee under section 332(g) of the Tariff Act of 1930 (19 U.S.C. 1332(g)), the Commission will include the following in its report:

1. An overview of the Haitian economy, including, to the extent practicable, employment, nominal, and inflation-adjusted wages, working conditions, and respect for core labor standards, and U.S. imports from Haiti, 1980-2021, highlighting key products that are currently exported and key products that were historically important to Haiti and are either no longer exported to the United States or are exported in reduced quantities.

2. A description of the role of U.S. preference programs in shaping Haiti's economy, including a description of the eligibility requirements, rules of origin, and scope of product coverage for each program.

3. An overview of the competitiveness of the Haitian economy, including, to the extent practicable: A description of the business environment and trade-facilitating infrastructure in Haiti; a description of the Haitian workforce, including availability and skill level of workers, and policies and practices in Haitian labor markets; and a description of the impact that recent natural disasters and significant political events have had on Haiti's economy and on U.S.-Haiti trade.

4. Case studies for selected goods currently or historically exported from Haiti (such as apparel, tropical fruits, and sporting goods, including baseballs, basketballs, and softballs), and to the extent practicable, identification of products with potential for increased exports. Each case study should include, to the extent practicable:

a. Trends in production and exports, including an analysis of the historical trends, as applicable;

b. A description of the industry in Haiti, including employment, nominal, and inflation-adjusted wages, and working conditions, and the industry's position in the supply chain.

The Committee requested that the Commission transmit its report no later than 10 months following receipt of its request. In its request letter, the Committee stated that it intends to make the Commission's report available to the public in its entirety and asked that the Commission not include any confidential business information.

Public Hearing: A public hearing in connection with this investigation will be held via an online videoconferencing platform, beginning at 9:30 a.m. Eastern Time on May 26th, 2022. More detailed information about the hearing, including how to participate, will be posted on the Commission's website at (https://usitc.gov/research_and_analysis/what_we_are_working_on.htm). Once on that web page, scroll down to Investigation No. 332-590, U.S.-Haiti Trade: Impact of U.S. Preference Programs on Haiti's Economy and Workers, and click on the link to “Hearing Instructions.” Interested parties should check the Commission's website periodically for updates.

Requests to appear at the public hearing should be filed with the Secretary to the Commission no later than 5:15 p.m. May 4, 2022, in accordance with the requirements in the “Written Submissions” section below. All prehearing briefs and statements should be filed not later than 5:15 p.m. May 13, 2022. To facilitate the hearing, including the preparation of an accurate written transcript of the hearing, oral testimony to be presented at the hearing must be submitted to the Commission electronically no later than noon, May 19, 2022. All post-hearing briefs and statements should be filed no later than 5:15 p.m. June 9, 2022. Post-hearing briefs and statements should address matters raised at the hearing. For a description of the different types of written briefs and statements, see the “Definitions” section below. In the event that, as of the close of business on May 4, 2022, no witnesses are scheduled to appear at the hearing, the hearing will be canceled. Any person interested in attending the hearing as an observer or nonparticipant should check the Commission website two paragraphs above for information concerning whether the hearing will be held.

Written submissions: In lieu of or in addition to participating in the hearing, interested parties are invited to file written submissions concerning this investigation. All written submissions should be addressed to the Secretary and should be received not later than 5:15 p.m. June 23, 2022. All written submissions must conform to the provisions of section 201.8 of the Commission's Rules of Practice and Procedure (19 CFR 201.8), as temporarily amended by 85 FR 15798 (March 19, 2020). Under that rule waiver, the Office of the Secretary will accept only electronic filings at this time. Filings must be made through the Commission's Electronic Document Information System (EDIS, https://edis.usitc.gov). No in-person paper-based filings or paper copies of any electronic filings will be accepted until further notice. Persons with questions regarding electronic filing should contact the Office of the Secretary, Docket Services Division (202-205-1802), or consult the Commission's Handbook on Filing Procedures.

Definitions of types of documents that may be filed; requirements: In addition to requests to appear at the hearing, this notice provides for the possible filing of four types of documents: Prehearing briefs, oral hearing statements, post-hearing briefs, and other written submissions.

(1) Prehearing briefs refers to written materials relevant to the investigation and submitted in advance of the hearing, and includes written views on matters that are the subject of the investigation, supporting materials, and any other written materials that you consider will help the Commission in understanding your views. You should file a prehearing brief particularly if you plan to testify at the hearing on behalf of an industry group, company, or other organization, and wish to provide detailed views or information that will support or supplement your testimony.

(2) Oral hearing statements (testimony) refers to the actual oral statement that you intend to present at the public hearing. Do not include any confidential business information in that statement. If you plan to testify, you must file a copy of your oral statement by the date specified in this notice. This statement will allow Commissioners to understand your position in advance of the hearing and will also assist the court reporter in preparing an accurate transcript of the hearing (e.g., names spelled correctly).

(3) Post-hearing briefs refers to submissions filed after the hearing by persons who appeared at the hearing. Such briefs: (a) Should be limited to matters that arose during the hearing, (b) should respond to any Commissioner and staff questions addressed to you at the hearing, (c) should clarify, amplify, or correct any statements you made at the hearing, and (d) may, at your option, address or rebut statements made by other participants in the hearing.

(4) Other written submissions refers to any other written submissions that interested persons wish to make, regardless of whether they appeared at the hearing, and may include new information or updates of information previously provided.

In accordance with the provisions of section 201.8 of the Commission's Rules of Practice and Procedure (19 CFR 201.8) the document must identify on its cover (1) the investigation number and title and the type of document filed (i.e., prehearing brief, oral statement of (name), posthearing brief, or written submission), (2) the name and signature of the person filing it, (3) the name of the organization that the submission is filed on behalf of, and (4) whether it contains confidential business information (CBI). If it contains CBI, it must comply with the marking and other requirements set out below in this notice relating to CBI. Submitters of written documents (other than oral hearing statements) are encouraged to include a short summary of their position or interest at the beginning of the document, and a table of contents when the document addresses multiple issues.

Confidential business information: Any submissions that contain confidential business information must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

As requested by the Committee, the Commission will not include any confidential business information in its report. However, all information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes. The Commission will not otherwise disclose any confidential business information in a way that would reveal the operations of the firm supplying the information.

Summaries of written submissions: Persons wishing to have a summary of their position included in the report should include a summary with their written submission on or before June 23, 2022, and should mark the summary as having been provided for that purpose. The summary should be clearly marked as “summary for inclusion in the report” at the top of the page. The summary may not exceed 500 words and should not include any confidential business information. The summary will be published as provided if it meets these requirements and is germane to the subject matter of the investigation. The Commission will list the name of the organization furnishing the summary and will include a link to the Commission's Electronic Document Information System (EDIS) where the written submission can be found.

By order of the Commission.
Issued: March 22, 2022.
Lisa Barton,
Secretary to the Commission.

[FR Doc. 2022-06322 Filed 3-24-22; 8:45 am]

BILLING CODE 7020-02-P